DEPARTMENT OF EDUCATION

[Docket No. ED-2021-SCC-0080]

Agency Information Collection Activities; Submission to the Office of Management and Budget for Review and Approval; Comment Request; Voluntary Decline of Higher Education Emergency Relief Funds Form

AGENCY: Office of Postsecondary Education (OPE), Department of Education (ED).

ACTION: Notice.

SUMMARY: In accordance with the Paperwork Reduction Act of 1995, ED is proposing an extension without change of a currently approved collection.

DATES: Interested persons are invited to submit comments on or before October 25, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Karen Epps, (202) 453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Voluntary Decline of Higher Education Emergency Relief Funds Form.

OMB Control Number: 1840-0856.

Type of Review: Extension without change of a currently approved collection.

Respondents/Affected Public: Private Sector.

Total Estimated Number of Annual Responses: 125.

Total Estimated Number of Annual Burden Hours: 63.

Abstract: Funding for the Higher Education Emergency Relief Fund (HEERF) is provided by the Coronavirus Aid, Relief, and Economic Security Act (CARES Act) (Pub. L. 116-136), the Coronavirus Response and Relief Supplemental Appropriations Act, 2021 (CRRSAA) (Pub. L. 116-260) and the American Rescue Plan Act of 2021 (Pub. L. 117-2). Institutions eligible for funding under these statutes may elect to voluntarily decline all or a portion of their HEERF grant awards, in which case the U.S. Department of Education (the Department) will then deobligate the funds from the institution's G5 account and will later redistribute the funds to other institutions with greater needs due to the coronavirus. In order to process the deobligation and redistribution of these funds more efficiently, the Department is requesting an extension of approval of a short form that will allow these institutions to provide the Department with information regarding the funds being declined.

Dated: September 21, 2021.
Kate Mullen,
PRA Coordinator, Strategic Collections and Clearance, Governance and Strategy Division, Office of Chief Data Officer, Office of Planning, Evaluation and Policy Development.

[FR Doc. 2021-20720 Filed 9-23-21; 8:45 am]

BILLING CODE 4000-01-P